DEPARTMENT OF DEFENSE

Department of the Air Force

[Docket ID: USAF-2010-0020]

Privacy Act of 1974; System of Records

AGENCY: Department of the Air Force, DOD.

ACTION: Notice to amend a system of records.

SUMMARY: The Department of the Air Force is proposing to amend a system of records notice in its existing inventory of records systems subject to the Privacy Act of 1974, (5 U.S.C. 552a), as amended.

DATES: The changes will be effective on August 23, 2010, unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Room 3C843, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles Shedrick at (703) 696-6488.

SUPPLEMENTARY INFORMATION: The Department of the Air Force systems of records notices subject to the Privacy Act of 1974, (5 U.S.C. 552a), as amended, have been published in the Federal Register and are available from the Air Force Privacy Act Officer, Office of Warfighting Integration and Chief Information Officer, SAF/XCPPF, 1800 Air Force Pentagon, Washington, DC 20330-1800.

The specific changes to the records system being amended are set forth below followed by the notice, as amended, published in its entirety. The proposed amendments are not within the purview of subsection (r) of the Privacy Act of 1974, (5 U.S.C. 552a), as amended, which requires the submission of a new or altered system report.

Dated: July 19, 2010.
Mitchell S. Bryman,
Alternate OSD Federal Register Liaison Officer, Department of Defense.

F021 AFSPC A

System name:

Cable Affairs Personnel/Agency Records (June 11, 1997; 62 FR 31793)

Changes:

* * * * *

System location:

Delete entry and replace with “Intercontinental Ballistic Missile Cable Affairs Offices at missile bases reporting to Headquarters Air Global Strike Command. Official mailing addresses are published as an appendix to the Air Force's compilation of systems of records notices.”

* * * * *

Authority for maintenance of the system:

Delete entry and replace with “10 U.S.C. 8013, Secretary of the Air Force: powers and duties; delegation by; and AFI 21-202, Volume 1, Missile Maintenance Management.”

* * * * *

Retrievability:

Delete entry and replace with “Records may be retrieved by name, home address and telephone number.”

* * * * *

System manager(s) and address:

Delete entry and replace with “Director of Maintenance, Deputy Chief of Staff/Logistics, Headquarters United States Air Force, 1030 Air Force Pentagon, Washington, DC 20330-1030. Chief, Nuclear Command, Control and Communications Branch, Headquarters Air Force Global Strike Command/A6ON, 414 Curtiss Road, Suite 227, Barksdale Air Force Base, LA 71110-2455.”

Notification procedure:

Delete entry and replace with “Individuals seeking to determine whether this system of records contains information on themselves should address inquiries to the Director of Maintenance, Deputy Chief of Staff/Logistics, Headquarters United States Air Force, 1030 Air Force Pentagon, Washington, DC 20330-1030, or to the Chief, Nuclear Command, Control and Communications Branch, Headquarters Air Force Global Strike Command/A6ON, 414 Curtiss Road, Suite 227, Barksdale Air Force Base, LA 71110-2455.

Request should include full name (First, M.I. and Last Name), home address, home telephone number and reason for your request.”

Record access procedures:

Delete entry and replace with “Individuals seeking to access records about themselves contained in this system should address requests to the Director of Maintenance, Deputy Chief of Staff/Logistics, Headquarters United States Air Force, 1030 Air Force Pentagon, Washington, DC 20330-1030, or to the Chief, Nuclear Command, Control and Communications Branch, Headquarters Air Force Global Strike Command/A6ON, 414 Curtiss Road, Suite 227, Barksdale Air Force Base, LA 71110-2455.

The request should include full name (First, M.I. and Last Name) mailing address and primary and alternate telephone numbers.”

* * * * *

F021 AFSPC A

System name:

Cable Affairs Personnel/Agency Records

System location:

Intercontinental Ballistic Missile Cable Affairs Offices at missile bases reporting to Headquarters Air Global Strike Command. Official mailing addresses are published as an appendix to the Air Force's compilation of systems of records notices.

Categories of individuals covered by the system:

Non-United States Air Force personnel/agencies that cross or could cross, inundate, or otherwise affect the Hardened Intersite Cable System (HICS) and/or its rights-of-way (ROW). The personnel/agencies include landowners, tenants, highway/road departments, public and private utility companies, contractors, farm agencies (Federal, State, and local), municipal offices, and railroads.

Categories of records in the system:

Records reflecting information on personnel/agencies who affect, or are affected by, the Hardened Intersite Cable System and its rights-of-way and/or actions on the Hardened Intersite Cable System and its rights-of-way.

Landowners and/or tenants information will include name, home address and home telephone number.

Authority for maintenance of the system:

10 U.S.C. 8013, Secretary of the Air Force: powers and duties; delegation by; and AFI 21-202, Volume 1, Missile Maintenance Management.

Purpose(s):

Used to track and monitor all agency activities that affect the Hardened Intersite Cable System and its rights-of-way (such as highway crossings, utility crossings, construction, earth moving, etc.) and could impair Hardened Intersite Cable System hardness integrity.

Also used to maintain contact with personnel/agencies to coordinate Hardened Intersite Cable System or Hardened Intersite Cable System rights-of-way maintenance/construction actions performed by the United States Air Force (USAF) or USAF contractors.

Routine uses of records maintained in the system, including categories of users the purposes of such uses:

In addition to those disclosures generally permitted under 5 U.S.C. 552a(b) of the Privacy Act of 1974, these records contained therein, may specifically be disclosed outside the DoD as a routine use pursuant to 5 U.S.C. 552a(b)(3) as follows:

The DoD `Blanket Routine Uses' published at the beginning of the Air Force's compilation of systems of records notices apply to this system.

Policies and practices for storing, retrieving, accessing, retaining, and disposing of records in the system:

Storage:

Maintained in file folders and electronic storage media.

Retrievability:

Records may be retrieved by name, home address and telephone number.

Safeguards:

Records are accessed by person(s) responsible for servicing the record system in performance of their official duties and by authorized personnel who are properly screened and cleared for need-to-know. Records are stored in locked rooms and cabinets. Those in computer storage devices are protected by computer system software.

Retention and disposal:

Retained in office files until no longer needed for reference. Paper records are destroyed by tearing into pieces, shredding, pulping, macerating or burning. Computer records are destroyed by erasing, deleting, or overwriting.

System manager(s) and address:

Director of Maintenance, Deputy Chief of Staff/Logistics, Headquarters United States Air Force, 1030 Air Force Pentagon, Washington, DC 20330-1030.

Chief, Nuclear Command, Control and Communications Branch, Headquarters Air Force Global Strike Command/A6ON, 414 Curtiss Road, Suite 227, Barksdale Air Force Base, LA 71110-2455.

Notification procedure:

Individuals seeking to determine whether this system of records contains information on themselves should address inquiries to the Director of Maintenance, Deputy Chief of Staff/Logistics, Headquarters United States Air Force, 1030 Air Force Pentagon, Washington, DC 20330-1030, or to the Chief, Nuclear Command, Control and Communications Branch, Headquarters Air Force Global Strike Command/A6ON, 414 Curtiss Road, Suite 227, Barksdale Air Force Base, LA 71110-2455.

Request should include full name (First, M.I. and Last Name), home address, home telephone number and reason for your request.

Record access procedures:

Individuals seeking to access records about themselves contained in this system should address requests to the Director of Maintenance, Deputy Chief of Staff/Logistics, Headquarters United States Air Force, 1030 Air Force Pentagon, Washington, DC 20330-1030, or to the Chief, Nuclear Command, Control and Communications Branch, Headquarters Air Force Global Strike Command/A6ON, 414 Curtiss Road, Suite 227, Barksdale Air Force Base, LA 71110-2455.

The request should include full name (First, M.I. and Last Name) mailing address and primary and alternate telephone numbers.

Contesting record procedures:

The Air Force rules for accessing records, and for contesting and appealing initial agency determinations are published in Air Force Instruction 37-132; 32 CFR part 806b; or may be obtained from the system manager.

Record source categories:

Survey information obtained through replies from personnel/agencies as defined in categories of individuals above.

Exemptions claimed for the system:

None.

[FR Doc. 2010-17963 Filed 7-21-10; 8:45 am]

BILLING CODE 5001-06-P